DEPARTMENT OF HOMELAND SECURITY

Federal Emergency Management Agency

[Docket ID FEMA-2011-0014; OMB No. 1660-0020]

Agency Information Collection Activities: Submission for OMB Review; Comment Request, Write Your Own (WYO) Program

AGENCY: Federal Emergency Management Agency, DHS.

ACTION: Notice.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

SUPPLEMENTARY INFORMATION: Title: Write Your Own (WYO) Program.

OMB Number: 1660-0020.

Abstract: FEMA enters into arrangements with individual private sector insurance companies that are licensed to engage in the business of property insurance. These companies may offer flood insurance coverage to eligible property owners utilizing their customary business practices. WYO Companies are expected to meet the recording and reporting requirements of the WYO Transaction Record Reporting and Processing Plan.

Affected Public: Business or other for-profit.

Number of Respondents: 88.

Estimated Time per Respondent: 0.59 hours.

Estimated Total Annual Burden Hours: 623 hours.

Frequency of Response: Monthly.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before October 3, 2011.

FOR FURTHER INFORMATION CONTACT: Requests for additional information or copies of the information collection should be made to Director, Records Management Division, 500 C Street, SW., Washington, DC 20472, Mail Drop Room 301, 1800 S. Bell Street, Arlington, VA 22202, facsimile number (202) 646-3347, or e-mail address FEMA-Information-Collections@dhs.gov.

Lesia M. Banks,
Director, Records Management Division, Office of the Chief Administrative Officer, Federal Emergency Management Agency, Department of Homeland Security.

[FR Doc. 2011-22464 Filed 9-1-11; 8:45 am]

BILLING CODE 9111-52-P